ENVIRONMENTAL PROTECTION AGENCY

[FRL-9610-8]

Notification of a Public Meeting of the Science Advisory Board Libby Amphibole Asbestos Review Panel

AGENCY: Environmental Protection Agency (EPA).

ACTION: Notice.

SUMMARY: The Environmental Protection Agency (EPA or Agency) Science Advisory Board (SAB) Staff Office announces a public face-to-face meeting of an SAB Panel to review EPA's draft Toxicological Review of Libby Amphibole Asbestos (August 2011).

DATES: The meeting will be held on February 6, 2012 from 9 a.m. to 5:30 p.m., February 7, 2012 from 8:30 a.m. to 5:30 p.m. and on February 8, 2012 from 8:30 a.m. to 2:30 p.m. (Eastern Time).

ADDRESSES: The meeting will be held at the Westin Alexandria Hotel at 400 Courthouse Square, Alexandria, VA 22314.

FOR FURTHER INFORMATION CONTACT: Any member of the public wishing further information regarding this meeting may contact Dr. Diana Wong, Designated Federal Officer (DFO), SAB Staff Office, by telephone/voice mail at (202) 564-2049 or via email at wong.diana-M@epa.gov. General information concerning the EPA Science Advisory Board can be found at the EPA SAB Web site at http://www.epa.gov/sab.

SUPPLEMENTARY INFORMATION: Background: The SAB was established pursuant to the Environmental Research, Development, and Demonstration Authorization Act (ERDAA) codified at 42 U.S.C. 4365, to provide independent scientific and technical peer review, advice, consultation, and recommendations to the EPA Administrator on the technical basis for EPA actions. As a Federal Advisory Committee, the SAB conducts business in accordance with the Federal Advisory Committee Act (FACA) (5 U.S.C. App. 2) and related regulations. Pursuant to FACA and EPA policy, notice is hereby given that an SAB Panel will hold a public meeting to review EPA's draft Toxicological Review of Libby Amphibole Asbestos (August 2011). The SAB panel will comply with the provisions of FACA and all appropriate SAB Staff Office procedural policies.

The EPA's National Center for Environmental Assessment (NCEA) within the Office of Research and Development (ORD) has requested SAB to review EPA's Draft Toxicological Review of Libby Amphibole Asbestos in Support of Summary Information on the Integrated Risk Information System (IRIS) (August, 2011). The SAB Staff Office previously requested public nominations of experts to serve on a SAB review panel on May 27, 2011 (76 FR 30939-30940). Information about the formation of the Libby Amphibole Asbestos Review Panel can be found on the SAB Web site at http://yosemite.epa.gov/sab/sabproduct.nsf/fedrgstr_activites/Libby%20Cancer%20Assessment?OpenDocument.

Availability of the review materials: The agenda and materials in support of this meeting will be available at the URL above. For technical questions and information concerning EPA's review document, please contact Dr. Danielle DeVoney, of EPA's National Center for Environmental Assessment (NCEA), by phone (703) 347-8558, or via email at devoney.daniel@epa.gov; or Dr. Bob Benson, of EPA Region 8, by phone (303) 312-7070, or via email at benson.bob@epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining EPA's charge or meeting materials. Input from the public to the SAB will have the most impact if it consists of comments that provide specific scientific or technical information or analysis for the SAB panel to consider or if it relates to the clarity or accuracy of the technical information.

Members of the public wishing to provide comment should contact the Designated Federal Officer for the relevant advisory committee directly. Oral Statements: In general, individuals or groups requesting an oral presentation at this public meeting will be limited to five minutes per speaker. Interested parties should contact Dr. Diana Wong, DFO, in writing (preferably via email), at the contact information noted above, by January 27, 2012 to be placed on the list of public speakers for the meeting. Written Statements: Written statements should be received in the SAB Staff Office by January 27, 2012 so that the information may be made available to the SAB Panel for their consideration. Written statements should be supplied to the DFO in electronic format via email (acceptable file formats: Adobe Acrobat PDF, WordPerfect, MS Word, MS PowerPoint, or Rich Text files in IBM-PC/Windows 98/2000/XP format). It is the SAB Staff Office general policy to post written comments on the web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Diana Wong at the phone number or email address noted above, preferably at least ten days prior to the meeting, to give EPA as much time as possible to process your request.

Dated: December 16, 2011.
Vanessa T. Vu,
Director, EPA Science Advisory Board Staff Office.

[FR Doc. 2011-33000 Filed 12-22-11; 8:45 am]

BILLING CODE 6560-50-P